DEPARTMENT OF COMMERCE

Foreign-Trade Zones Board

[B-38-2014]

Foreign-Trade Zone 38—Spartanburg County, South Carolina; Application for Expansion of Subzone 38A; BMW Manufacturing Company, LLC; Greer, South Carolina

An application has been submitted to the Foreign-Trade Zones (FTZ) Board by the South Carolina State Ports Authority (SCSPA), grantee of FTZ 38, requesting the expansion of Subzone 38A, located at the facility of BMW Manufacturing Company, LLC in Spartanburg County, South Carolina. The application was submitted pursuant to the provisions of the Foreign-Trade Zones Act, as amended (19 U.S.C. 81a-81u), and the regulations of the FTZ Board (15 CFR part 400). It was formally docketed on May 14, 2014.

The grantee proposes to expand Subzone 38A to include temporary Site 8 (8 acres) on a permanent basis. The site is located at 154 Metro Court, Greer, Spartanburg County. No additional authorization for production authority has been requested at this time.

In accordance with the FTZ Board's regulations, Kathleen Boyce of the FTZ Staff is designated examiner to review the application and make recommendations to the FTZ Board.

Public comment is invited from interested parties. Submissions shall be addressed to the FTZ Board's Executive Secretary at the address below. The closing period for their receipt is June 30, 2014. Rebuttal comments in response to material submitted during the foregoing period may be submitted during the subsequent 15-day period to July 15, 2014.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz.

For further information, contact Kathleen Boyce at Kathleen.Boyce@trade.gov or (202) 482-1346.

Dated: May 15, 2014.
Andrew McGilvray,
Executive Secretary.

[FR Doc. 2014-11812 Filed 5-20-14; 8:45 am]

BILLING CODE 3510-DS-P